DEPARTMENT OF AGRICULTURE

Rural Housing Service

Notice of Funds Availability (NOFA) Inviting Applications for the Rural Community Development Initiative (RCDI)

AGENCY: Rural Housing Service, USDA.

ACTION: Notice.

SUMMARY: This Notice announces the availability of $6 million of grant funds for the RCDI program through the Rural Housing Service (RHS), herein referred to as the Agency, USDA. Applicants must provide matching funds from non-Federal sources in an amount at least equal to the Federal grant. These grants will be made to qualified intermediary organizations that will provide technical assistance to recipients to develop their capacity and ability to undertake projects to improve housing, community facilities, or community and economic development. This Notice lists the information needed to submit an application for these funds.

DATES: The deadline for receipt of an application is 4:00 p.m. EST on June 15, 2000. The application deadline is firm as to date and hour. The agency will not consider any application received after the deadline.

The comment period for information collection under the Paperwork Reduction Act of 1995 continues through May 16, 2000. Comments on the paperwork burden must be received by this date to be assured of consideration.

ADDRESSES: Entities wishing to apply for assistance may download the application requirements from the RCDI website at: www.rurdev.usda.gov/rhs/rcdi/index.htm. Applicants may also request application packages from: Beth Jones, Rural Housing Service, STOP 0787, 1400 Independence Ave. SW, Washington, DC 20250-0787, Telephone (202) 720-1498, E-mail: epjones@rdmail.rural.usda.gov.

FOR FURTHER INFORMATION CONTACT: Beth Jones, Senior Loan Specialist, Community Programs, RHS, USDA, STOP 0787, 1400 Independence Ave. SW, Washington, DC 20250-0787, Telephone (202) 720-1498, Facsimile (202) 690-0471, E-mail: epjones@rdmail.rural.usda.gov. You may also obtain information from the RCDI website at: www.rurdev.usda.gov/rhs/rcdi/index.htm.

SUPPLEMENTARY INFORMATION:

Paperwork Reduction Act

The reporting requirements contained in this notice have received temporary emergency clearance by the Office of Management and Budget (OMB) under Control Number 0575-0180. However, in accordance with the Paperwork Reduction Act of 1995, RHS will seek standard OMB approval of the reporting requirements contained in this Notice and hereby opens a 60-day public comment period.

Abstract: RHS, an Agency within the USDA Rural Development mission area, will administer the RCDI grant program through their Community Facilities Division. The intent of the RCDI grant program is to develop the capacity and ability of rural area recipients through a program of technical assistance provided by qualified intermediary organizations.

Estimate of Burden: Public reporting burden for this collection of information is estimated to average 1.37 hours per response.

Respondents: Intermediaries and recipients.

Estimated Number of Respondents: 100.

Estimated Number of Responses per Respondent: 15.

Estimated Total Annual Burden on Respondents: 2,012 hours.

Copies of this information collection can be obtained from Tracy Gillin, Regulations and Paperwork Management Branch, (202) 692-0039.

Comments: Comments are invited on: (a) Whether the proposed collection of information is necessary for the proper performance of the functions of the Agency, including whether the information will have practical utility; (b) the accuracy of the Agency estimate of the burden of the proposed collection of information including the validity of the methodology and assumptions used; (c) ways to enhance the quality, utility, and clarity of the information to be collected; and (d) ways to minimize the burden of the collection of information on those who are to respond, including the use of appropriate automated, electronic, mechanical, or other technological collection techniques or other forms of information technology. Comments on the paperwork burden may be sent to Tracy Gillin, Regulations and Paperwork Management Branch, Rural Development, U.S. Department of Agriculture, Stop 0742, 1400 Independence Avenue SW, Washington, DC 20250-0742. All responses to this notice will be summarized and included in the request for OMB approval. All comments will also become a matter of public record.

Background

Congress created the Rural Community Development Initiative (RCDI) in Fiscal Year 2000 with an appropriation of $6 million under the Rural Community Advancement Program (RCAP). These funds are to be used solely to develop the capacity and ability of private, nonprofit community-based housing and community development organizations, and low income rural communities to improve housing, community facilities, and community and economic development projects in rural areas. Qualified private and public (including tribal) intermediary organizations proposing to carry out technical assistance programs will be eligible to receive the funding. The intermediary will be required to provide matching funds from non-Federal sources in an amount at least equal to the RCDI grant.

Definitions for RCDI Purposes

Agency—The Rural Housing Service (RHS) or its successor.

Beneficiary—entities or individuals that receive benefits from assistance provided by the recipient.

Capacity—the ability of a recipient to finance and implement housing, community facilities, and community and economic development projects or provide technical assistance to enhance a community's potential.

Intermediary—a qualified private or public (including tribal) organization that provides technical assistance to multiple recipients.

Low-income community a city, town, village, county, parish, or borough with a median household income at, or below, 80 percent of the statewide median household income.

Matching Funds cash or confirmed funding commitments from non-Federal sources. Matching funds must be at least equal to the grant amount. In-kind contributions cannot be used as matching funds.

Recipient—the entity that receives the technical assistance from the intermediary. The recipient must be either a private, nonprofit community-based housing or community development organization or a low-income rural community.

Rural and Rural Area—a city, town, or unincorporated area that has a population of 50,000 inhabitants or less, other than urbanized areas immediately adjacent to a city, town, or unincorporated area that has a population in excess of 50,000 inhabitants.

Technical Assistance—skilled help in improving the recipient's abilities in the areas of housing, community facilities, or community and economic development. The Agency will determine whether a specific activity qualifies as technical assistance.

Eligibility Requirements

1. The recipient and beneficiary, but not the intermediary, must be located in an eligible rural area. The applicable Rural Development State Office can assist in determining the eligibility of an area. A listing of Rural Development State Offices is included in this Notice.

2. The recipients must be identified in the grant application.

3. The recipients must be private, nonprofit organizations or low-income rural communities, not individuals.

4. The intermediary must provide matching non-Federal funds at least equal to the amount of the grant.

5. The intermediary must provide a program of technical assistance to the recipient.

6. The intermediary organization must have at least three years prior experience working with nonprofit organizations or low-income rural communities in the areas of housing, community facilities, or community and economic development.

7. The respective minimum and maximum grant amount per intermediary is $50,000 and $1 million.

8. Proposals must be structured to utilize the grant funds within 3 years from the date of the award.

9. Each intermediary, whether singularly or jointly, may only submit one application for RCDI funds under this NOFA unless the intermediary's participation is limited to providing all or part of the matching funds.

10. Only federally recognized Indian tribes are eligible tribal applicants.

Eligible Grant Uses

Grant uses must be consistent with the RCDI purpose, (see “Background” section of this Notice). A nonexclusive list of eligible grant uses includes the following:

1. Provide technical assistance to develop recipients' capacity and ability to undertake projects to improve housing, community facilities, or community and economic development, (e.g., the intermediary hires a staff person to provide technical assistance to the recipient; the recipient hires a staff person, under the supervision of the intermediary, to carry out the technical assistance provided by the intermediary).

2. Develop the capacity of recipients to conduct community development programs, (e.g., home-ownership education or training for minority business entrepreneurs).

3. Develop the capacity of recipients to conduct development initiatives, (e.g., programs that support micro-enterprise, cooperatives, and sustainable development).

4. Increase the leveraging ability and access to alternative funding sources by providing resources to recipients for training, staffing, and other related costs.

5. Develop successful essential community facilities by providing resources to recipients for training, staffing, and other related costs.

6. Assist recipients in completing predevelopment requirements for housing, community facilities, or community and economic development projects by providing resources for a technical assistance program.

7. Improve recipient's organizational capacity by providing training and resource material on developing strategic plans, board operations, and management.

Ineligible Grant Uses

1. Funding a revolving loan fund.

2. Construction (in any form).

3. Intermediary preparation of strategic plans for recipients.

4. Funding illegal activities.

5. Grants to individuals.

6. Funding a grant where there may be a conflict of interest or an appearance of a conflict of interest involving any action by the Agency.

7. Paying obligations incurred before the beginning date or after the ending date of the grant agreement.

8. Purchasing real estate.

9. Improvement or renovation of the grantee's office space or for the repair or maintenance of privately-owned vehicles.

10. Any other purpose prohibited in 7 CFR parts 3015, 3016, and 3019, as applicable.

Methods for Evaluating Applications

Applications will be rated and ranked by a review panel based on the “Evaluation Criteria and Weights” contained in this Notice. If there is a tie score after the applications have been rated and ranked, the tie will be resolved by a lottery. The names of the applicants will be entered into a drawing. The first name drawn will receive the highest ranking of those in the lottery. This name-drawing process will continue until there are no tied scores. The State Office will review their copy of the application and provide the State Director's written comments and recommendations to the National Office.

Evaluation Criteria and Weights

This information should be presented in narrative form. Documentation must be limited to two pages per criterion with the exception of “Economic Distress”, which must be limited to one page per recipient.

1. Improve Capacity—maximum 60 points

The applicant must demonstrate how they will improve the recipients' capacity as it relates to the RCDI purposes. Applications must include a description of how the improved capacity will be measured. All applications will be competitively ranked with the applications providing the most improvement in capacity development and specific measurements of success being ranked the highest. Each of the following rating criteria will be equally considered, with the sub-criteria equally considered within each criterion:

a. Number of recipients trained and extensiveness of training programs on:

(1) Building organizational capacity through developing strategic plans, board operations, and management;

(2) Developing projects related to housing, community facilities or community and economic development; and

(3) Developing initiatives that support micro-enterprises, cooperatives, and home-ownership education.

b. Programs' demonstrated ability to:

(1) Increase recipients' leveraging and access to alternative funding sources;

(2) Enlarge the recipients' geographic service area;

(3) Increase the services provided by the recipient; and

(4) Allow the recipient to provide new services.

c. Any other technical assistance program that meets the recipients' unique needs to improve capacity.

The application ranking and scoring are:

Ranking | Scoring (points)
8 highest ranking applications | 60
Next 8 highest ranking applications | 45
Next 8 highest ranking applications | 30
Next 8 highest ranking applications | 15

2. Expertise—maximum 40 points

The applicant must demonstrate they have conducted programs of technical assistance and achieved measurable results in the areas of housing, community facilities, or community and economic development in rural areas. All applications will be competitively ranked using the following equally rated criteria:

a. The number of years of organizational experience the applicant has providing technical and other assistance to nonprofit organizations or low-income rural communities in the areas of housing, community facilities, or community and economic development;

b. The average number of staff years the members of the applicant organization have providing technical and other assistance to nonprofit organizations or low-income rural communities in the areas of housing, community facilities, or community and economic development; and

c. Previous Federal grant experience measured by the dollar amount of Federal grants received in the last 5 years by the intermediary and the number of housing, community facilities, or community and economic development recipients assisted.

The application ranking and scoring are:

Ranking | Scoring (points)
8 highest ranking applications | 40
Next 8 highest ranking applications | 30
Next 8 highest ranking applications | 20
Next 8 highest ranking applications | 10

3. Population—maximum 30 points

Population is based on the 1990 census data. The applicant must submit national data on population, from the Bureau of the Census, to verify the population figures being used. This data can be accessed from a link on the RCDI website. The RCDI web address is www.rurdev.usda.gov/rhs/rcdi/index.htm. The average population of the recipient locations will be used and will be scored as follows:

Population | Scoring (points)
5,000 or less | 30
5,001 to 10,000 | 20
10,001 to 20,000 | 10
20,001 to 50,000 | 5

4. Income—maximum 30 points

Points will be awarded by comparing the average median household income of recipients' location with the State median household income using 1995 data from the Bureau of the Census. The applicant must submit national data on income to verify the income figures being used. This information can be accessed from a link on the RCDI website. The web address is www.rurdev.usda.gov/rhs/rcdi/index.htm. Points will be awarded as follows:

Average recipient median income is | Scoring (points)
Less than 60 percent of the State median household income | 30
Between 60 and 70 percent of the State median household income | 20
Greater than 70 percent of the State median household income | 10

5. Sustainability—30 points

Applications that have self-sustaining proposals will be awarded 30 points. To be considered self-sustaining, a proposal must, at a minimum, be expected to be fully functional for at least 3 years after the expiration of the grant. Points will be awarded to applications that have the highest score on the following factors: a. The number of years the proposal will be self-sustaining and what the ongoing impact will be; b. How the capacity being built and the impact will be measured; and c. How the program will be financially sustained after funds are fully disbursed.

6. Economic Distress—maximum 20 points

Appropriate documentation and verification must be submitted to support these criteria. For each recipient location, select only one type of economic distress, if applicable, and provide documentation. The recipient location must meet the requirements listed for the category selected. The areas of economic distress that will be considered are:

a. Loss of industry—compare the annual average unemployment rate for 1998 to the lowest annual average unemployment rate since 1994. The difference between the rates must be seven percent or more and be directly related to the loss of industry. Unemployment data, to verify the differences in the unemployment rate, can be accessed from a link on the RCDI website. The RCDI web address is www.rurdev.usda.gov/rhs/rcdi/index.htm. Submit excerpts from this data to verify the difference in unemployment figures. Newspaper articles or a letter from the Chamber of Commerce can be used as verification of the loss of industry.

b. Unemployment—an annual average unemployment rate for 1998 of 11.5 percent or greater, in accordance with the U.S. Department of Labor, Bureau of Labor Statistics. This data can be accessed from a link on the RCDI website. The RCDI web address is www.rurdev.usda.gov/rhs/rcdi.index.htm. Submit the excerpt from this data to verify the unemployment rate.

c. Poverty—a location where the median household income is below 60% of the State median household income. Submit national data on income, using 1995 data from the Bureau of the Census, to verify income figures. This data can be accessed from a link on the RCDI website. The RCDI web address is www.rurdev.usda.gov/rhs/rcdi/index.htm.

d. Out-migration of population—a 10 percent or greater decline in population between the July 1, 1998 estimated population and the April 1, 1990 census population. Submit population data to verify the decline in population. The population figures can be accessed from a link on the RCDI website. The RCDI web address is www.rurdev.usda.gov/rhs/rcdi/index.htm.

e. Natural disasters—a Presidentially declared natural disaster area.

The percentages and scoring are:

Percentage of recipients with documented economic distress | Scoring (points)
95-100 | 20
75-94 | 15
50-74 | 10
25-49 | 5

7. Innovative Approach—maximum 20 points

The applicant must demonstrate that they have developed an innovative approach that can be used by other organizations as a model. To be considered innovative, the approach must propose an easily replicated new or useful service or method of providing service to recipients that builds their capacity to improve their communities in the areas of housing, community facilities or community and economic development. Points will be awarded to applications that have the highest score on the following factors:

a. Ease of replication by nonprofit organizations or low-income rural communities;

b. Uniqueness of proposal;

c. Financial return to rural communities; and

d. Need by nonprofit organization or low-income rural community.

If warranted, up to ten applicants will be eligible to receive points in this category. The application ranking and scoring are:

Ranking | Scoring (points)
5 highest ranking applications | 20
Next 5 highest ranking applications | 10

8. Geographic Distribution Points—20 points

Applicant must provide a map that specifically describes the areas covered by their recipients. After applications have been evaluated and awarded points under the first seven criteria, the Agency may award 20 points per application to promote a broad geographic distribution of RCDI funds.

9. Purpose Distribution Points—20 points

Applicant must state the purpose of their application, i.e., housing, community facilities, or community and economic development. After applications have been evaluated and awarded points under the first seven criteria, the Agency may award 20 points per application to promote diversity of RCDI purposes.

10. Proportional Distribution Points—20 points

Applicant must state the amount of their grant request. After applications have been evaluated and awarded points under the first seven criteria, the Agency may award 20 points per application to promote dispersion of grant awards between the range of $50,000 to $1,000,000.

Deliverables

Grant funds and matching funds must be used in equal proportions. Grant funds will be disbursed pursuant to relevant provisions of 7 CFR parts 3015, 3016, and 3019, as applicable. Matching funds must be used to support the overall purpose of the RCDI program.

Grant Amounts

In the event that the applicant is awarded a grant that is less than the amount requested, they will be required to modify their application to conform to the reduced amount before execution of the grant agreement. The Agency reserves the right to reduce or de-obligate the award if acceptable modifications are not submitted by the awardee within 15 working days from the date the application is returned to the applicant. Any modifications must be within the scope of the original application.

Program Requirements

1. A Civil Rights Impact Analysis Certification must be completed by the Agency prior to grant approval.

2. A pre-award compliance review will be conducted by the Agency prior to closing the grant.

3. The intermediary and recipient must comply with title VI of the Civil Rights Act of 1964, section 504 of the Rehabilitation Act of 1973 and Executive Order 12250.

4. The grantee must comply with the applicable requirements of 7 CFR part 3015, “Uniform Federal Assistance Regulations,” part 3016, “Uniform Administrative Requirements for Grants and Cooperative Agreements to State and Local Governments,” and part 3019, “Uniform Administrative Requirements for Grants and Agreements with Institutions of Higher Education, Hospitals, and other Nonprofit Organizations.”

Grantee Requirements

Grantees will be required to do the following.

1. Execute a Rural Community Development Initiative Grant Agreement, which is published at the end of this NOFA.

2. Execute Form RD 1940-1, “Request for Obligation of Funds.”

3. Provide evidence of fidelity or employee dishonesty bond coverage equal to the grant amount at grant closing.

4. Use Form SF 270, “Request for Advance or Reimbursement” to request advances and reimbursements.

5. Provide financial status and project performance reports on a quarterly basis starting with the first full quarter after the grant award.

6. Maintain a financial management system that is acceptable to the Agency.

7. Provide annual audits or management reports on Forms RD 442-2, “Statement of Budget, Income, and Equity,” and RD 442-3, “Balance Sheet,” depending on the amount of Federal funds expended and the outstanding balance.

8. Collect and maintain data provided by recipients on race, sex, and national origin and ensure that their recipients collect and maintain the same data on their beneficiaries.

9. Provide a final project performance report.

Contents of Application Package

A complete application for RCDI funds must include the following.

1. A summary page listing the following items. This information should be double-spaced between items and not in narrative form.

a. Applicant's name,

b. Applicant's address,

c. Applicant's telephone number,

d. Name of applicant's contact person,

e. Amount of grant request,

f. Number of recipients, and

g. Source and amount of matching funds.

2. A detailed Table of Contents containing page numbers for each component of the application.

3. A project overview, no longer than three pages, which should include:

a. Recipient names and locations, (locations should include town, county, and state and the population composition of the service area of the recipient including race, sex, and national origin), submit information from the 1990 census to verify population figures;

b. Evidence that the recipient is a nonprofit organization or a public body in a low-income rural community; and

c. Verification of matching funds, i.e., a copy of a bank statement if matching funds are in cash or a copy of the confirmed funding commitment from the funding source. The applicant will be contacted by the Agency prior to grant award if verification of matching funds was not submitted with the application. The applicant will have 10 working days, from the date of contact, to submit verification of matching funds. If the applicant is unable to provide the verification within that timeframe, their application will be considered ineligible.

Describe Items “d” Through “h” in Narrative Form.

d. The type of technical assistance and how it will be implemented,

e. How the capacity and ability of the recipient will be improved,

f. The overall goal to be accomplished,

g. The benchmarks that will be used to measure success, and

h. A synopsis of what the applicant organization does or attach a copy of its mission statement, if available.

4. Each of the “Evaluation Criteria” must be addressed specifically and individually by category. Present these criteria in narrative form. Documentation must be limited to two pages per criterion with the exception of “Economic Distress”, which must be limited to one page per recipient.

5. A separate one-page information sheet listing each of the “Evaluation Criteria and Weights”, contained in this Notice, followed by the page numbers of all relevant material and documentation contained in the application which supports these criteria. This page should immediately follow the project overview.

6. A breakdown of specific time increments and steps to accomplish goals.

7. A detailed breakdown of estimated costs and a project budget.

8. Organizational documents for the intermediary.

9. Form SF-424, “Application for Federal Assistance.”

10. Form SF-424B, “Assurances—Non-Construction Programs.”

11. Form AD-1047, “Certification Regarding Debarment, Suspension, and Other

Responsibility Matters u Primary Covered Transactions.”

12. Form AD-1048, “Certification Regarding Debarment, Suspension, Ineligibility and Voluntary Exclusion u Lower Tier Covered Transactions.”

13. Form AD-1049, “Certification Regarding Drug-Free Workplace Requirements.”

14. Certification of Non-Lobbying Activities.

15. Standard Form LLL, “Disclosure of Lobbying Activities”.

16. Form RD 400-1, “Equal Opportunity Agreement”.

17. Form RD 400-4, “Assurance Agreement”.

18. Identify and Report Any Association or Relationship with Rural Development Employees.

What and Where To Submit

An original and one copy of the complete application package must be submitted to: Beth Jones, Rural Housing Service, STOP 0787, 1400 Independence Ave. SW, Washington, DC 20250-0787 and a copy of the application must be submitted to the Rural Development State Office that has jurisdiction over the location of the recipients of this assistance. A listing of Rural Development State Offices is included in this Notice. Applications sent electronically or by facsimile will not be accepted.

When To Submit

The deadline for receipt of an application is 4:00 p.m. EST on June 15, 2000. The application deadline is firm as to date and hour and applies to submission of the original application and one copy to the National Office in Washington, DC. The Agency will not consider any application received after the deadline. A listing of Rural Development State Offices, their addresses, telephone numbers, and person to contact follows:

Note: Telephone numbers listed are not toll-free.

Alabama State Office, Suite 601, Sterling Centre, 4121 Carmichael Road, Montgomery, AL 36106-3683, (334) 279-3455, TDD (334) 279-3495, James B. Harris

Alaska State Office, 800 West Evergreen, Suite 201, Palmer, AK 99645, (907) 761-7705, TDD (907) 745-6494, Frank Muncy

Arizona State Office, Phoenix Corporate Center, 3003 N. Central Ave., Suite 900, Phoenix, AZ 85012-2906, (602) 280-8747, TDD (602) 280-8706, Leonard Gradillas

Arkansas State Office, 700 W. Capitol Ave., Rm. 3416, Little Rock, AR 72201-3225, (501) 301-3257, TDD (501) 301-3279, Jesse Sharp

California State Office, 430 G Street, Agency 4169, Davis, CA 95616-4169, (530) 792-5825, TDD (530) 792-5825, Charles M. Clendenin

Colorado State Office, 655 Parfet Street, Room E100, Lakewood, CO 80215, (303) 236-2801 (ext. 136), TDD (303) 236-1590, Leroy W. Cruz

Connecticut served by Massachusetts State Office

Delaware and Maryland State Office, 5201 South Dupont Highway, PO Box 400, Camden, DE 19934-9998, (302) 697-4314, TDD (302) 697-4303, Arthur Greenwood

Florida & Virgin Islands State Office, 4440 N.W. 25th Place, PO Box 147010, Gainesville, FL 32614-7010, (352) 338-3440, TDD (352) 338-3499, Glenn E. Walden

Georgia State Office, Stephens Federal Building, 355 E. Hancock Avenue, Athens, GA 30601-2768, (706) 546-2171, TDD (706) 546-2034, Jerry M. Thomas

Guam served by Hawaii State Office

Hawaii, Guam, & Western Pacific Territories State Office, Room 311, Federal Building, 154 Waianuenue Avenue, Hilo, HI 96720, (808) 933-8309, TDD (808) 933-8321, Thao Khamoui

Idaho State Office, Suite A1, 9173 West Barnes Dr., Boise, ID 83709, (208) 378-5617, TDD (208) 378-5644, Daniel H. Fraser

Illinois State Office, Illini Plaza, Suite 103, 1817 South Neil Street, Champaign, IL 61820, (217) 398-5412 (ext. 246), TDD (217) 398-5396, Gerald A. Townsend

Indiana State Office, 5975 Lakeside Boulevard, Indianapolis, IN 46278, (317) 290-3109 (ext. 431), TDD (317) 290-3343, Greg Delp

Iowa State Office, 873 Federal Building, 210 Walnut Street, Des Moines, IA 50309, (515) 284-4152, TDD (515) 284-4858, Dorman Otte

Kansas State Office, 1200 SW Executive Drive, PO Box 4653, Topeka, KS 66604, 785) 271-2728, TDD (785) 271-2767, Gary L. Smith

Kentucky State Office, 771 Corporate Drive, Suite 200, Lexington, KY 40503, (606) 224-7415, TDD (606) 224-7422, Vernon Brown

Louisiana State Office, 3727 Government Street, Alexandria, LA 71302, (318) 473-7940, TDD (318) 473-7655, Danny H. Magee

Maine State Office, 967 Illinois Ave., Suite 4, PO Box 405, Bangor, ME 04402-0405, (207) 990-9168, TDD (207) 942-7331, Alan C. Daigle

Maryland Served by Delaware State Office

Massachusetts, Connecticut, & Rhode Island State Office, 451 West Street, Amherst, MA 01002, (413) 253-4318, TDD (413) 253-7068, Daniel R. Beaudette

Michigan State Office, 3001 Coolidge Road, Suite 200, East Lansing, MI 48823, (517) 324-5192, TDD (517) 337-6795, Philip H. Wolak

Minnesota State Office, 410 AgriBank Building, 375 Jackson Street, St. Paul, MN 55101-1853, (651) 602-7820, TDD (651) 602-3799, Jackie Goodnough

Mississippi State Office, Federal Building, Suite 831, 100 W. Capitol Street, Jackson, MS 39269, (601) 965-4325, TDD (601) 965-5850, Danny Ivy

Missouri State Office, 601 Business Loop 70 West, Parkade Center, Suite 235, Columbia, MO 65203, (573) 876-0995, TDD (573) 876-9301, D. Clark Thomas

Montana State Office, Unit 1, Suite B 900 Technology Blvd., Bozeman, MT 59715, (406) 585-2515, TDD (406) 585-2562, MaryLou Affleck

Nebraska State Office, Federal Building, room 152, 100 Centennial Mall N, Lincoln, NE 68508, (402) 437-5559, TDD (402) 437-5093, Denise Brosius-Meeks

Nevada State Office, 1390 South Curry Street, Carson City, NV 89703-9910, (775) 887-1222 (ext. 26), TDD (775) 885-0633, Mike Holm

New Hampshire State Office, Concord Center, Suite 218, Box 317, 10 Ferry Street, Concord, NH 03301-5004, (603) 223-6037, TDD (603) 229-0536, William W. Konrad

New Jersey State Office, Tarnsfield Plaza, Suite 22, 790 Woodland Road, Mt. Holly, NJ 08060, (609) 265-3641, TDD (609) 265-3687, Michael P. Kelsey

New Mexico State Office, 6200 Jefferson St., NE, Room 255, Albuquerque, NM 87109, (505) 522-8775, ext. 6,TDD (505) 761-4938, Clyde F. Hudson

New York State Office, The Galleries of Syracuse, 441 S. Salina Street, Suite 357, Syracuse, NY 13202, (315) 477-6427, TDD (315) 477-6447, David Miller

North Carolina State Office, 4405 Bland Road, Suite 260, Raleigh, NC 27609, (919) 873-2061, TDD (919) 873-2003, Thurman E. Burnette

North Dakota State Office, Federal Building, Room 208, 220 East Rosser, PO Box 1737, Bismarck, ND 58502, (701) 530-2040, TDD (701) 530-2113, William C. Davis

Ohio State Office, Federal Building, Room 507, 200 North High Street, Columbus, OH 43215-2477, (614) 255-2391, TDD (614) 469-5757, David M. Douglas

Oklahoma State Office, 100 USDA, Suite 108, Stillwater, OK 74074-2654, (405) 742-1060, TDD (405) 742-1007, Rock W. Davis

Oregon State Office, 101 SW Main, Suite 1410, Portland, OR 97204-3222, (503) 414-3363, TDD (503) 414-3387, Jerry W. Sheridan

Pennsylvania State Office, One Credit Union Place, Suite 330, Harrisburg, PA 17110-2996, (717) 237-2281, TDD (717) 237-2261, Gary Rothrock

Puerto Rico State Office, New San Juan Office Bldg., Room 501, 159 Carlos E. Chardon Street, Hato Rey, PR 00918-5481, (787) 766-5095 (ext. 261), TDD 1-800-274-1572, Pedro Gomez

Rhode Island served by Massachusetts State Office,

South Carolina State Office, Strom Thurmond Federal Building, 1835 Assembly Street, Room 1007, Columbia, SC 29201, (803) 253-3432, TDD (803) 765-5697, Larry D. Floyd

South Dakota State Office, Federal Building, Room 210, 200 Fourth Street, SW, Huron, SD 57350, (605) 352-1132, TDD (605) 352-1147, Dwight Wullweber

Tennessee State Office, Suite 300, 3322 West End Avenue, Nashvile, TN 37203-1084, (615) 783-1345, TDD (615) 783-1397, Keith Head

Texas State Office, Federal Building, Suite 102, 101 South Main, Temple, TX 76501, (254) 742-9755, TDD (254) 742-9712, Eugene G. Pavlat

Utah State Office, Wallace F. Bennett Federal Building, 125 S. State Street, Room 4311, Salt Lake City, UT 84147-0350, (801) 524-4326, TDD (801) 524-3309, Jack Cox

Vermont State Office, City Center, 3rd Floor, 89 Main Street, Montpelier, VT 05602, (802) 828-6030, TDD (802) 223-6365, Rhonda Shippe

Virgin Islands served by Florida State Office

Virginia State Office, Culpeper Building, Suite 238, 1606 Santa Rosa Road, Richmond, VA 23229, (804) 287-1600, TDD (804) 287-1753, H. Kent Ware

Washington State Office, Suite B, 1835 Black Lake Boulevard, SW, Olympia, WA 98512-5715, (360) 704-7707, TDD (360) 704-7760, Deborah Davis

Western Pacific Territories served by Hawaii State Office

West Virginia State Office, Federal Building, 75 High Street, Room 320, Morgantown, WV 26505-7500, (304) 284-4868, TDD (304) 284-5941, Dianne Crysler

Wisconsin State Office, 4949 Kirschling Court, Stevens Point, WI 54481, (715) 345-7615 (ext. 131), TDD (715) 345-7614, Mark Brodziski

Wyoming State Office, 100 East B, Federal Building, Room 1005, PO Box 820, Casper, WY 82602, (307) 261-6318, TDD (307) 261-6333, Charles Huff

Dated: March 13, 2000.
Inga Smulkstys,
Acting Under Secretary, Rural Development.

OMB NO. 0575-0180

United States Department of Agriculture

Rural Housing Service

Rural Community Development Initiative Grant Agreement

THIS GRANT AGREEMENT (Agreement) dated XXX, is a contract for receipt of grant funds under the Rural Community Development Initiative (RCDI).

BETWEEN

a private or public or tribal organization, (Grantee or Intermediary) and the United States of America acting through the Rural Housing Service (the Agency), Department of Agriculture, (Grantor), for the benefit of recipients listed in Grantee's application for the grant.

WITNESSETH:

The principal amount of the grant is $XXX (Grant Funds). Matching funds, in an amount equal to the grant funds, will be provided by Grantee from a non-Federal source. The Grantee and Grantor will execute Form RD 1940-1, “Request for Obligation of Funds”.

WHEREAS,

Grantee will provide a program of technical assistance to develop the capacity and ability of private, nonprofit community-based housing or community development organizations, or low-income rural communities to undertake projects to improve housing, community facilities, or community and economic development projects in rural areas;

NOW, THEREFORE, in consideration of said grant;

According to the Paperwork Reduction Act of 1995, no persons are required to respond to a collection of information unless it displays a valid OMB control number. The valid OMB control number for this information collection is 0575-0180. The time required to complete this information collection is estimated to average 30 minutes per response, including the time for reviewing instructions, searching existing data sources, gathering and maintaining the data needed, and reviewing the collection of information.

Grantee agrees that Grantee will:

A. Provide a program of technical assistance in accordance with the proposal outlined in the application, the terms of which are incorporated with this Agreement and must be adhered to. Any changes to the approved program of technical assistance must be approved in writing by the Grantor;

B. Use Grant Funds only for the purposes and activities specified in the application package approved by the Agency including the approved budget. Any uses not provided for in the approved budget must be approved in writing by the Agency in advance;

C. Charge expenses for travel and per diem that will not exceed the rates paid Agency employees for similar expenses;

D. Request cash advances in the minimum amount needed and shall be timed to be in accord only with the actual, immediate cash requirements for carrying out the grant purpose. Form SF 270, “Request for Advance or Reimbursement”, will be used for this purpose;

E. Provide periodic reports as required by the Grantor. A financial status report and a project performance report will be required on a quarterly basis (due 15 working days after each calendar quarter). The financial status report must show how grant funds and matching funds have been used to date and project the funds needed and their purposes for the next quarter. A final report may serve as the last quarterly report. Grantees shall constantly monitor performance to ensure that time schedules are being met and projected goals by time periods are being accomplished. The project performance reports shall include, but are not limited to, the following:

1. A comparison of actual accomplishments to the objectives for that period;

2. Reasons why established objectives were not met, if applicable;

3. Problems, delays, or adverse conditions which will affect attainment of overall program objectives, prevent meeting time schedules or objectives, or preclude the attainment of particular objectives during established time periods. This disclosure shall be accomplished by a statement of the action taken or planned to resolve the situation;

4. Objectives and timetables established for the next reporting period;

5. If available, a summary of the race, sex, and national origin of the recipients and a summary from the recipients of the race, sex, and national origin of the beneficiaries; and

6. The final report will also address the following:

(a) What have been the most challenging or unexpected aspects of this program?

(b) What advice would you give to other organizations planning a similar program? Please include strengths and limitations of the program. If you had the opportunity, what would you have done differently?

(c) Are there any post-grant plans for this project? If yes, how will they be financed?

(d) If an innovative approach was used successfully, the grantee must describe their program in detail for replication by other organizations and communities.

F. Consider potential recipients without discrimination as to race, color, religion, sex, national origin, age, marital status, or physical or mental disability;

G. Insure that any services or training offered by the recipient, as a result of the technical assistance received, must be made available to all persons in the recipient's service area without discrimination as to race, color, religion, sex, national origin, age, marital status, or physical or mental disability at reasonable rates, including assessments, taxes, or fees. Programs and activities must be delivered from accessible locations. The recipient must ensure that where there are non-English speaking populations that materials are provided in the language that is spoken;

H. Insure that recipients are required to place nondiscrimination statements in advertisements, notices, pamphlets and brochures making the public aware of their services. The Grantee and recipient are required to provide widespread outreach and public notification in promoting any type of training or services that are available through grant funds;

I. The Grantee must collect and maintain data on recipients by race, sex, and national origin. The grantee must ensure that their recipients also collect and maintain data on beneficiaries by race, sex, and national origin as required by title VI of the Civil Rights Act of 1964 and must be provided to the Agency for compliance review purposes;

J. Upon any default under its representations or agreements contained in this instrument, Grantee, at the option and demand of Grantor, will immediately repay to Grantor the Grant Funds with any legally permitted interest from the date of the default. Default by the Grantee will constitute termination of the grant thereby causing cancellation of Federal assistance under the grant. The provisions of this Agreement may be enforced by Grantor, at its option and without regard to prior waivers of this Agreement or by such other proceedings in law or equity, in either Federal or State courts as may be deemed necessary by Grantor to assure compliance with the provisions of this Agreement and the laws and regulations under which this grant is made;

K. Provide Financial Management Systems which will include:

1. Accurate, current, and complete disclosure of the financial results of each grant. Financial reporting will be on an accrual basis;

2. Records that identify adequately the source and application of funds for grant-supported activities. Those records shall contain information pertaining to grant awards and authorizations, obligations, unobligated balances, assets, liabilities, outlays, and income;

3. Effective control over and accountability for all funds, property, and other assets. Grantees shall adequately safeguard all such assets and shall ensure that they are used solely for authorized purposes;

4. Accounting records supported by source documentation; and

5. Grantee tracking of fund usage and records that show matching funds and grant funds are used in equal proportions. The grantee will provide verifiable documentation regarding matching fund usage, i.e., bank statements or copies of funding obligations from the matching source.

L. Retain financial records, supporting documents, statistical records, and all other records pertinent to the grant for a period of at least three years after grant closing except that the records shall be retained beyond the three-year period if audit findings have not been resolved. Microfilm or photocopies or similar methods may be substituted in lieu of original records. The Grantor and the Comptroller General of the United States, or any of their duly authorized representatives, shall have access to any books, documents, papers, and records of the Grantee's which are pertinent to the specific grant program for the purpose of making audits, examinations, excerpts, and transcripts;

M. Provide an A-133 audit report if $300,000 or more of federal funds are expended in a one year period. If federal funds expended during a one-year period are less than $300,000 and there is an outstanding loan balance of $300,000 or more, an audit in accordance with generally accepted government auditing standards is required. If federal funds expended during a one year period are less than $300,000 and there is an outstanding loan balance of less than $300,000, a management report may be submitted on Forms RD 442-2, “Statement of Budget, Income and Equity” and 442-3, “Balance Sheet”;

N. Agree to account for and to return to Grantor interest earned on grant funds pending their disbursement for program purposes when the Grantee is a unit of local government. States and agencies or instrumentalities of a State are not held accountable for interest earned on grant funds pending their disbursement;

O. Not encumber, transfer or dispose of the equipment or any part thereof, acquired wholly or in part with Grantor funds without the written consent of the Grantor; and

P. Not duplicate other program purposes for which monies have been received, are committed, or are applied to from other sources (public or private).

Grantor agrees that It:

A. Will make available to Grantee for the purpose of this Agreement funds in an amount not to exceed the Grant Funds. The funds will be advanced to Grantee on a pro rata basis with the Grantee's matching funds; and

B. At its sole discretion and at any time may give any consent, deferment, subordination, release, satisfaction, or termination of any or all of Grantee's grant obligations, with or without valuable consideration, upon such terms and conditions as Grantor may determine to be:

1. Advisable to further the purpose of the grant or to protect Grantor's financial interest therein; and

2. Consistent with both the statutory purposes of the grant and the limitations of the statutory authority under which it is made.

Both Parties Agree:

A. Extensions of this grant agreement may be approved by the Agency, in writing, provided in the Agency's sole discretion the extension is justified and there is a likelihood that the grantee can accomplish the goals set out and approved in the application package during the extension period;

B. The Grantor must approve any changes in recipient or recipient composition;

C. The Grantor has agreed to give the Grantee the Grant Funds, subject to the terms and conditions established by the Grantor: Provided, However, That any Grant Funds actually advanced and not needed for grant purposes be returned immediately to the Grantor. This agreement shall terminate three years from this date unless extended or unless terminated beforehand due to default on the part of the Grantee or for convenience of the Grantor and Grantee. The Grantor may terminate the grant in whole, or in part, at any time before the date of completion, whenever it is determined that the Grantee has failed to comply with the conditions of this Agreement or the applicable regulations;

D. As a condition of the Agreement, the Grantee certifies that it is in compliance with and will comply in the course of the Agreement with all applicable laws, regulations, Executive Orders, and other generally applicable requirements, including those contained in 7 CFR 3015.205(b), which are incorporated into this agreement by reference, and such other statutory provisions as are specifically contained herein. The Grantee will comply with title VI of the Civil Rights Act of 1964, section 504 of the Rehabilitation Act of 1973, and Executive Order 12250;

E. The Grantee will ensure that the recipients comply with title VI of the Civil Rights Act of 1964, section 504 of the Rehabilitation Act of 1973 and Executive Order 12250. Each recipient must sign Form RD 400-1, “Equal Opportunity Agreement” and Form RD 400-4, “Assurance Agreement”;

F. The provisions of 7 CFR part 3015, “Uniform Federal Assistance Regulations,” part 3016, “Uniform Administrative Requirements for Grants and Cooperative Agreements to State and Local Governments,” or part 3019, “Uniform Administrative Requirements for Grants and Agreements with Institutions of Higher Education, Hospitals, and Other Nonprofit Organizations,” are incorporated herein and made a part hereof by reference; and

G. This Agreement may be terminated for cause in the event of default on the part of the Grantee or for convenience of the Grantor and Grantee prior to the date of completion of the grant purpose. Termination for convenience will occur when both the Grantee and Grantor agree that the continuation of the program will not produce beneficial results commensurate with the further expenditure of funds.

IN WITNESS WHEREOF, Grantee has this day authorized and caused this Agreement to be executed by

Attest

By

(Grantee)

(Title)

United States of America, Rural Housing Service.

By

(Grantor) (Name) (Title)

[FR Doc. 00-6673 Filed 3-16-00; 8:45 am]

BILLING CODE 3410-XV-P